FEDERAL MARITIME COMMISSION

[Docket No. 06-11]

R.O. White and Company, Inc. and Ceres Marine Terminals, Inc. v. Port of Miami Terminal Operating Company, L.L.C., Continental Stevedoring and Terminals, Inc., Florida Stevedoring, Inc., P&O Ports North America, Inc., P&O Ports Florida, Inc., Eller-ITO Stevedoring Company L.L.C., Dante B. Fascell Port of Miami-Dade, aka Miami-Dade County Seaport Department, Miami-Dade County; Notice of Amended Complaint

Notice is given that an amended complaint has been filed with the Federal Maritime Commission by R.O. White & Company, Inc., and Ceres Marine Terminals, Inc., against Port of Miami Terminal Operating Company, L.L.C., Continental Stevedoring & Terminals, Inc., Florida Stevedoring, Inc., P&O Ports North America, Inc., P&O Ports Florida, Inc., Eller-ITO Stevedoring Company L.L.C., and Dante B. Fascell Port of Miami-Dade, a.k.a. Miami-Dade County Seaport Department. The Amended Complaint names Miami-Dade County as a respondent in the original proceeding noticed at 71 FR 70965.

By the Commission.
Bryant L. VanBrakle,
Secretary.

[FR Doc. 07-3553 Filed 7-20-07; 8:45 am]

BILLING CODE 6730-01-M